COMMODITY FUTURES TRADING COMMISSION

Energy and Environmental Markets Advisory Committee

AGENCY: Commodity Futures Trading Commission.

ACTION: Notice of meeting.

SUMMARY: The Commodity Futures Trading Commission (CFTC or Commission) announces that on May 7, 2020, from 10:00 a.m. to 2:30 p.m., the Energy and Environmental Markets Advisory Committee (EEMAC) will hold a public meeting. At this meeting, the EEMAC will hear remarks on the Commission's Position Limits for Derivatives proposed rule as approved by the Commission on January 30, 2020. The agenda for this meeting will be available to the public and posted on the Commission's website at https://www.cftc.gov. Instructions for public access to the live audio feed of the meeting will also be posted on the Commission's website. In the event that the time, date, or place of this meeting changes, an announcement of the change, along with the new time, date, or place of the meeting, will be posted on the Commission's website.

DATES: The meeting will be held on May 7, 2020, from 10:00 a.m. to 2:30 p.m. Members of the public who wish to submit written statements in connection with the meeting should submit them by May 14, 2020.

ADDRESSES: You may submit public comments, identified by “Energy and Environmental Markets Advisory Committee,” by any of the following methods:

• CFTC Comments Portal: https://comments.cftc.gov. Select the “Submit Comments” link for this meeting notice and follow the instructions on the Public Comment Form.

• Mail: Send to Christopher Kirkpatrick, Secretary of the Commission, Commodity Futures Trading Commission, Three Lafayette Center, 1155 21st Street NW, Washington, DC 20581.

• Hand Delivery/Courier: Follow the same instructions as for Mail, above.

Please submit your comments using only one of these methods. Submissions through the CFTC Comments Portal are encouraged. Any statements submitted in connection with the committee meeting will be made available to the public, including by publication on the CFTC website, https://www.cftc.gov.

FOR FURTHER INFORMATION CONTACT: Abigail S. Knauff, EEMAC Secretary, Commodity Futures Trading Commission, Three Lafayette Centre, 1155 21st Street NW, Washington, DC 20581; (202) 418-5123.

SUPPLEMENTARY INFORMATION: At this meeting, the EEMAC will hear remarks on the Commission's Position Limits for Derivatives proposed rule as approved on January 30, 2020. Specifically, the EEMAC will examine: (1) The proposed position limits for spot months, single month, and all-months-combined, and (2) the proposed bona fide hedge exemptions from such position limits and related procedures.

Members of the public may also listen to the public meeting by telephone by calling a domestic toll-free telephone or international toll or toll-free number to connect to a live, listen-only audio feed. Call-in participants should be prepared to provide their first name, last name, and affiliation.

Domestic Toll Free: 1-877-951-7311.

International Toll and Toll Free: Will be posted on the CFTC's website, https://www.cftc.gov, on the page for the meeting, under Related Links.

Pass Code/Pin Code: 4007007.

The meeting agenda may change to accommodate other EEMAC priorities. For agenda updates, please visit the EEMAC committee website at: https://www.cftc.gov/About/CFTCCommittees/EnergyEnvironmentalMarketsAdvisory/emac_meetings.html.

After the meeting, a transcript of the meeting will be published through a link on the CFTC's website at: https://www.cftc.gov. All written submissions provided to the CFTC in any form will also be published on the CFTC's website. Persons requiring special accommodations to attend the meeting because of a disability should notify the contact person above.

(Authority: 7 U.S.C. 2(a)(15)(B)(i)).

Dated: April 15, 2020.
Robert Sidman,
Deputy Secretary of the Commission.

[FR Doc. 2020-08347 Filed 4-17-20; 8:45 am]

BILLING CODE 6351-01-P